DEPARTMENT OF THE INTERIOR

National Park Service

[NPS-WASO-NRNHL-17206; PPWOCRADI0, PCU00RP14.R50000]

National Register of Historic Places; Notification of Pending Nominations and Related Actions

Nominations for the following properties being considered for listing or related actions in the National Register were received by the National Park Service before November 14, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by December 26, 2014. Before including your address, phone number, email address, or other personal identifying information in your comment, you should be aware that your entire comment—including your personal identifying information—may be made publicly available at any time. While you can ask us in your comment to withhold your personal identifying information from public review, we cannot guarantee that we will be able to do so.

Dated: November 21, 2014.
Alexandra Lord,
Acting Chief, National Register of Historic Places/National Historic Landmarks Program.

ARIZONA

Maricopa County

Coffelt—Lamoreaux Homes Historic District, 509 S. 19th St., Phoenix, 14001081

DISTRICT OF COLUMBIA

District of Columbia

Park View Christian Church, 625 Park Rd. NW., Washington, 14001082

Van View, 7714 13th St. NW., Washington, 14001083

FLORIDA

Duval County

Norman Film Studios, 6337 Arlington Rd., Jacksonville, 14001084

Escambia County

Palafox Historic District, Palafox St. between Main & Chase extending to Spring, Pensacola, 14001085

Miami-Dade County

Vagabond Motel, 7301 Biscayne Blvd., Miami, 14001086

MAINE

Androscoggin County

Auburn Commercial Historic District, Main & Court Sts., Auburn, 14001087

Jordan, F.M., House, 18 Laurel Ave., Auburn, 14001088

Lincoln County

Fisherman's Island, Address Restricted, Boothbay, 14001091

MARYLAND

Baltimore Independent City

Berea—Biddle Street Historic District, N. Rose & Federal Sts., Edison Hwy., PCRR., Baltimore (Independent City), 14001092

Prince George's County

Ridgeley School, (Rosenwald Schools of Maryland MPS) 8507 Central Ave., Capitol Heights, 14001093

MASSACHUSETTS

Barnstable County

Chase Library, 7 Main St., Harwich, 14001094

Suffolk County

South End District (Boundary Increase), 200-224 Northampton St., Boston, 14001095

MICHIGAN

Alpena County

PEWABIC (propeller) Shipwreck Site, Address Restricted, Alpena Township, 14001096

Ingham County

French, Walter H., Junior High School, 1900 S. Cedar St., Lansing, 14001097

Presque Isle County

KATE SPANGLER (schooner) Shipwreck Site, L. Huron, 4 mi. NE. of Presque Isle, Presque Isle Township, 14001098

PENNSYLVANIA

Allegheny County

Pittsburgh Mercantile Company Building, 2600 E. Carson St., Pittsburgh, 14001099

Erie County

Manchester School No. 3, (Educational Resources of Pennsylvania MPS) 6610 W. Lake Rd., Fairview Township, 14001100

Luzerne County

Hotel Altamont, 145 W. Broad St., Hazelton, 14001101

Montgomery County

Franklinville School, 1701 Morris Rd., Blue Bell, 14001102

Jenkintown Wyncote Train Station, 3 West Ave., Jenkintown and Cheltenham Township, 14001103

Northampton County

Simon, R. and H., Silk Mill, 659 N. 13th St., Easton, 14001104

Philadelphia County

Schoettle, Edwin J., Company Building, 533 N. 11th St., Philadelphia, 14001105

TENNESSEE

Hamilton County

Standard—Coosa—Thatcher Mills, 1800 Watkins St., Chattanooga, 14001106

Washington County

Brown Farm, 359 Taylor Bridge Rd., Jonesborough, 14001107

WASHINGTON

Pierce County

Cushman Substation, 3713 N. 19th St., Tacoma, 14001108

Spokane County

Canfield, George and Nellie. House, 1301 N. Sherwood St., Spokane, 14001109

Whatcom County

Downtown Bellingham Historic District, Roughly bounded by E. Maple, N. Forest, York, Prospect, Bay & W. Chestnut Sts., Central & Cornwall Aves., Bellingham, 14001110

WEST VIRGINIA

Monroe County

Gap Valley Historic District, Sweet Springs Valley, Zenith & Rowan Rds., Gap Mills, 14001111

WISCONSIN

Milwaukee County

East Oregon and South Barclay Industrial Historic District, 300 S. Barclay, 139, 221 E. Oregon & 214 E. Florida Sts., Milwaukee, 14001112

[FR Doc. 2014-29027 Filed 12-10-14; 8:45 am]

BILLING CODE 4312-51-P